DEPARTMENT OF COMMERCE

National Oceanic and Atmospheric Administration

[RTID 0648-XC416]

Fisheries Finance Program; Announcement of Availability of Federal Financial Assistance for Western Alaskan Community Development Groups; Revision

AGENCY: National Marine Fisheries Service (NMFS), National Oceanic and Atmospheric Administration (NOAA).

ACTION: Notice, revision.

SUMMARY: NOAA published a notice in the Federal Register on March 25, 2022, announcing the availability of Federal financial assistance for Western Alaskan Community Development Groups. The notice listed a program policy that has since been updated.

FOR FURTHER INFORMATION CONTACT: Earl Bennett, 301-427-8765.

SUPPLEMENTARY INFORMATION:

Revision

The Federal Register notice published on March 25, 2022 (87 FR 17070), on page 17071, in the third column, Section II, that reads “NMFS will not approve loans for fisheries that are listed as overfished or subject to overfishing,” is revised as follows: “The Fisheries Finance Program (FFP) will decline loans for applicants applying for funds for a vessel(s) or harvesting privilege(s) in any fishery that is not subject to a fisheries management plan that includes rebuilding or sustainable harvesting provisions consistent with the Magnuson-Stevens Conservation and Management Act to prevent overfishing and rebuild stocks to sustainable levels.”

The new language represents a change of policy for all FFP lending programs.

Dated: October 20, 2022.
Brian Pawlak,
Director, NMFS Office of Management and Budget.

[FR Doc. 2022-23177 Filed 10-24-22; 8:45 am]

BILLING CODE 3510-22-P